DEPARTMENT OF ENERGY

Federal Energy Regulatory Commission

Combined Notice of Filings

Take notice that the Commission has received the following Natural Gas Pipeline Rate and Refund Report filings:

Filings Instituting Proceedings

Docket Numbers: CP19-6-000.

Applicants: Natural Gas Pipeline Company of America LLC and Kinder Morgan Illinois Pipeline LLC.

Description: Joint Application of Natural Gas Pipeline Company of America LLC and Kinder Morgan Illinois Pipeline LLC for Certificate and Abandonment Authorization under CP19-6.

Filed Date: 10/12/18.

Accession Number: 20181012-5227.

Comments Due: 5 p.m. ET 11/2/18.

Docket Numbers: RP15-904-001.

Applicants: Gas Transmission Northwest LLC.

Description: Pre-Arranged/Pre-Agreed (Amended Stipulation and Agreement of Settlement) Filing of Gas Transmission Northwest LLC under RP15-904.

Filed Date: 10/16/18.

Accession Number: 20181016-5172.

Comments Due: 5 p.m. ET 10/29/18.

Docket Numbers: RP19-94-000.

Applicants: Algonquin Gas Transmission, LLC.

Description: § 4(d) Rate Filing: Negotiated Rate—Keyspan to Brooklyn 797626 to be effective 11/1/2018.

Filed Date: 10/18/18.

Accession Number: 20181018-5020.

Comments Due: 5 p.m. ET 10/30/18.

Docket Numbers: RP19-95-000.

Applicants: Midcontinent Express Pipeline LLC.

Description: § 4(d) Rate Filing: Fuel Tracker Filing 10/18/18 to be effective 12/1/2018.

Filed Date: 10/18/18.

Accession Number: 20181018-5021.

Comments Due: 5 p.m. ET 10/30/18.

Docket Numbers: RP19-96-000.

Applicants: Centra Pipelines Minnesota Inc.

Description: § 4(d) Rate Filing: Updated Shipper Index December 2018 to be effective 12/1/2018.

Filed Date: 10/18/18.

Accession Number: 20181018-5029.

Comments Due: 5 p.m. ET 10/30/18.

Docket Numbers: RP19-97-000.

Applicants: Rockies Express Pipeline LLC.

Description: § 4(d) Rate Filing: Neg Rate 2018-10-18 Encana to be effective 10/18/2018.

Filed Date: 10/18/18.

Accession Number: 20181018-5063.

Comments Due: 5 p.m. ET 10/30/18.

Docket Numbers: RP19-98-000.

Applicants: Texas Eastern Transmission, LP.

Description: § 4(d) Rate Filing: Negotiated Rate—Spotlight 911548 to be effective 11/1/2018.

Filed Date: 10/18/18.

Accession Number: 20181018-5083.

Comments Due: 5 p.m. ET 10/30/18.

Docket Numbers: RP19-99-000.

Applicants: Texas Eastern Transmission, LP.

Description: § 4(d) Rate Filing: Negotiated Rate—EQT Energy 911235 to be effective 11/1/2018.

Filed Date: 10/18/18.

Accession Number: 20181018-5093.

Comments Due: 5 p.m. ET 10/30/18.

Docket Numbers: RP19-100-000.

Applicants: Algonquin Gas Transmission, LLC.

Description: § 4(d) Rate Filing: Negotiated Rate—ConEd to High Rise 797652 eff 10-20-18 to be effective 10/20/2018.

Filed Date: 10/19/18.

Accession Number: 20181019-5013.

Comments Due: 5 p.m. ET 10/31/18.

Docket Numbers: RP19-101-000.

Applicants: Texas Eastern Transmission, LP.

Description: Compliance filing STEP Project (CP15-499) In-Service Compliance Filing to be effective 12/1/2018.

Filed Date: 10/19/18.

Accession Number: 20181019-5032.

Comments Due: 5 p.m. ET 10/31/18.

Docket Numbers: RP19-102-000.

Applicants: Texas Eastern Transmission, LP.

Description: § 4(d) Rate Filing: Negotiated Rate EQT to Colonial 8953383 to be effective 11/1/2018.

Filed Date: 10/19/18.

Accession Number: 20181019-5057.

Comments Due: 5 p.m. ET 10/31/18.

Docket Numbers: RP19-103-000.

Applicants: Tennessee Gas Pipeline Company, L.L.C.

Description: § 4(d) Rate Filing: Volume No. 2 Bay State Gas Company d/b/a Columbia Gas of Massachusetts SP330904 to be effective 11/1/2018.

Filed Date: 10/19/18.

Accession Number: 20181019-5068.

Comments Due: 5 p.m. ET 10/31/18.

Docket Numbers: RP19-104-000.

Applicants: Algonquin Gas Transmission, LLC.

Description: § 4(d) Rate Filing: Negotiated Rate—ConEd to High Rise 797663 to be effective 10/21/2018.

Filed Date: 10/19/18.

Accession Number: 20181019-5128.

Comments Due: 5 p.m. ET 10/31/18.

Docket Numbers: RP19-105-000.

Applicants: Texas Eastern Transmission, LP.

Description: § 4(d) Rate Filing: Negotiated Rates—Sempra Deal IDs 951842 and 951848 to be effective 11/1/2018.

Filed Date: 10/19/18.

Accession Number: 20181019-5154.

Comments Due: 5 p.m. ET 10/31/18.

Docket Numbers: RP19-106-000.

Applicants: Northwest Pipeline LLC.

Description: eTariff filing per 1430: Petition for a waiver of the requirement to file FERC Form No. 501-G.

Filed Date: 10/19/18.

Accession Number: 20181019-5160.

Comments Due: 5 p.m. ET 10/31/18.

Docket Numbers: RP19-107-000.

Applicants: Spire Storage West LLC.

Description: § 4(d) Rate Filing: Spire Storage West LLC—Modification of Creditworthiness Provisions to be effective 11/19/2018.

Filed Date: 10/19/18.

Accession Number: 20181019-5185.

Comments Due: 5 p.m. ET 10/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2018.
Nathaniel J. Davis, Sr.,
Deputy Secretary.

[FR Doc. 2018-23443 Filed 10-25-18; 8:45 am]

BILLING CODE 6717-01-P